DEPARTMENT OF COMMERCE

Census Bureau

Agency Information Collection Activities; Submission to the Office of Management and Budget (OMB) for Review and Approval; Comment Request; Current Population Survey (CPS) Voting and Registration Supplement

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on April 15, 2024 during a 60-day comment period. This notice allows for an additional 30 days for public comments.

Agency: U.S. Census Bureau, Department of Commerce.

Title: Current Population Survey, Voting and Registration Supplement.

OMB Control Number: 0607-0466.

Form Number(s): There are no forms. All interviews are conducted using computers.

Type of Request: Regular submission, Request for Reinstatement, without Change of a previously approved collection for which approval has expired.

Number of Respondents: 44,000.

Average Hours Per Response: 1.5 minutes.

Burden Hours: 1,100.

Needs and Uses: This survey has provided statistical information for tracking historical trends of voter and nonvoter characteristics in each Presidential or Congressional election since 1964. The November CPS supplement is the only federal survey that provides a comprehensive set of voter and nonvoter characteristics. Federal, state, and local election officials use these data to formulate policies relating to the voting and registration process. Academic researchers, political party committees, think tanks, and other private organizations also use the voting and registration data.

Affected Public: Households.

Frequency: Biennially.

Respondent's Obligation: Voluntary.

Legal Authority: Title 13, U.S.C. Sections 8(b), 141, and 182.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0466.

Sheleen Dumas,
Department PRA Clearance Officer, Office of the Under Secretary for Economic Affairs, Commerce Department.

[FR Doc. 2024-16272 Filed 7-23-24; 8:45 am]

BILLING CODE 3510-07-P